DEPARTMENT OF HOMELAND SECURITY

Coast Guard

33 CFR Parts 100 and 165

[Docket No. USCG-2013-0904]

Special Local Regulations and Safety Zones; Recurring Events in Northern New England

AGENCY: Coast Guard, DHS.

ACTION: Notice of enforcement of regulations.

SUMMARY: The Coast Guard will enforce the events taking place throughout the Sector Northern New England Captain of the Port (COTP) Zone. This action is necessary to protect marine traffic and spectators from the hazards associated with powerboat races, regattas, boat parades, rowing and paddling boat races, swim events, and fireworks displays. During the enforcement period, no person or vessel may enter the Special Local Regulation area or Safety Zone without permission of the COTP.

DATES: The marine events listed in 33 CFR 100.120 and 33 CFR 165.171 will take place from June 14, 2014 through July 28, 2014, during the times and dates specified in Tables 1 and 2 below.

FOR FURTHER INFORMATION CONTACT: If you have questions on this notice, call or email Lieutenant Junior Grade Elizabeth Gunn, U.S. Coast Guard, Sector Northern New England, Waterways Management Division, via telephone at 207-767-0398 or email at Elizabeth.V.Gunn@uscg.mil.

SUPPLEMENTARY INFORMATION: The Coast Guard will enforce the Special Local Regulations and Safety Zones listed in 33 CFR 100.120 and 33 CFR 165.171. These regulations will be enforced for the duration of each event, on or about the dates indicated in TABLES 1 and 2.

Table 1
[33 CFR 100.120]
JUNE
Charlie Begin Memorial Lobster Boat Races | • Event Type: Power Boat Race.
| • Sponsor: Boothbay Harbor Lobster Boat Race Committee.
| • Date: June 14, 2014.
| • Time: 10:00 a.m. to 2:00 p.m.
| • Location: The regulated area includes all waters of Boothbay Harbor, Maine in the vicinity of John's Island within the following points (NAD 83):
| 43°50′04″ N, 069°38′37″ W.
| 43°50′54″ N, 069°38′06″ W.
| 43°50′49″ N, 069°37′50″ W.
| 43°50′00″ N, 069°38′20″ W.
Rockland Harbor Lobster Boat Races | • Event Type: Power Boat Race.
| • Sponsor: Rockland Harbor Lobster Boat Race Committee.
| • Date: June 15, 2014.
| • Time: 10:00 a.m. to 3:00 p.m.
| • Location: The regulated area includes all waters of Rockland Harbor, Maine in the vicinity of the Rockland Breakwater Light within the following points (NAD 83):
| 44°05′59″ N, 069°04′53″ W.
| 44°06′43″ N, 069°05′25″ W.
| 44°06′50″ N, 069°05′05″ W.
| 44°06′05″ N, 069°04′34″ W.
Windjammer Days Parade of Ships | • Event Type: Tall Ship Parade.
| • Sponsor: Boothbay Region Chamber of Commerce.
| • Date: June 25, 2014.
| • Time: 1:00 p.m. to 3:00 p.m.
| • Location: The regulated area includes all waters of Boothbay Harbor, Maine in the vicinity of Tumbler's Island within the following points (NAD 83):
| 43°51′02″ N, 069°37′33″ W.
| 43°50′47″ N, 069°37′31″ W.
| 43°50′23″ N, 069°37′57″ W.
| 43°50′01″ N, 069°37′45″ W.
| 43°50′01″ N, 069°38′31″ W.
| 43°50′25″ N, 069°38′25″ W.
| 43°50′49″ N, 069°37′45″ W.
Bass Harbor Blessing of the Fleet Lobster Boat Race | • Event Type: Power Boat Race.
| • Sponsor: Tremont Congregational Church.
| • Date: June 27, 2014.
| • Time: 10:00 a.m. to 2:00 p.m.
| • Location: The regulated area includes all waters of Bass Harbor, Maine in the vicinity of Lopaus Point within the following points (NAD 83):
| 44°13′28″ N, 068°21′59″ W.
| 44°13′20″ N, 068°21′40″ W.
| 44°14′05″ N, 068°20′55″ W.
| 44°14′12″ N, 068°21′14″ W.
JULY
Moosabec Lobster Boat Races | • Event Type: Power Boat Race.
| • Sponsor: Moosabec Boat Race Committee.
| • Date: July 5, 2014.
| • Time: 10:00 a.m. to 12:30 p.m.
| • Location: The regulated area includes all waters of Jonesport, Maine within the following points (NAD 83):
| 44°31′21″ N, 067°36′44″ W.
| 44°31′36″ N, 067°36′47″ W.
| 44°31′44″ N, 067°35′36″ W.
| 44°31′29″ N, 067°35′33″ W.
The Great Race | • Event Type: Rowing and Paddling Boat Race.
| • Sponsor: Franklin County Chamber of Commerce.
| • Date: July 7, 2014.
| • Time: 9:00 a.m. to 12:30 p.m.
| • Location: The regulated area includes all waters of Lake Champlain in the vicinity of Saint Albans Bay within the following points (NAD 83):
| 44°47′18″ N, 073°10′27″ W.
| 44°47′10″ N, 073°08′51″ W.
Maine Windjammer Lighthouse Parade | • Event Type: Wooden Boat Parade.
| • Sponsor: Maine Windjammer Association.
| • Date: July 11, 2014.
| • Time: 2:00 p.m. to 4:00 p.m.
| • Location: The regulated area includes all waters of Rockland Harbor, Maine in the vicinity of the Rockland Harbor Breakwater within the following points (NAD 83):
| 44°06′14″ N, 069°03′48″ W.
| 44°05′50″ N, 069°03′47″ W.
| 44°06′14″ N, 069°05′37″ W.
| 44°05′50″ N, 069°05′37″ W.
Searsport Lobster Boat Races | • Event Type: Power Boat Race.
| • Sponsor: Searsport Lobster Boat Race Committee.
| • Date: July 12, 2014.
| • Time: 10:00 a.m. to 2:00 p.m.
| • Location: The regulated area includes all waters of Searsport Harbor, Maine within the following points (NAD 83):
| 44°26′50″ N, 068°55′20″ W.
| 44°27′04″ N, 068°55′26″ W.
| 44°27′12″ N, 068°54′35″ W.
| 44°26′59″ N, 068°54′29″ W.
Mayor's Cup Regatta | • Event Type: Sailboat Parade.
| • Sponsor: Plattsburgh Sunrise Rotary.
| • Date: July 12, 2014.
| • Time: 10:00 a.m. to 4:00 p.m.
| • Location: The regulated area includes all waters of Cumberland Bay on Lake Champlain in the vicinity of Plattsburgh, New York within the following points (NAD 83):
| 44°41′26″ N, 073°23′46″ W.
| 44°40′19″ N, 073°24′40″ W.
| 44°42′01″ N, 073°25′22″ W.
Stonington Lobster Boat Races | • Event Type: Power Boat Race.
| • Sponsor: Stonington Lobster Boat Race Committee.
| • Date: July 13, 2014.
| • Time: 9:30 a.m. to 3:30 p.m.
| • Location: The regulated area includes all waters of Stonington, Maine within the following points (NAD 83):
| 44°08′55″ N, 068°40′12″ W.
| 44°09′00″ N, 068°40′15″ W.
| 44°09′11″ N, 068°39′42″ W.
| 44°09′07″ N, 068°39′39″ W.
The Challenge Race | • Event Type: Rowing and Paddling Boat Race.
| • Sponsor: Lake Champlain Maritime Museum.
| • Date: July 13, 2014.
| • Time: 11:00 a.m. to 3:00 p.m.
| • Location: The regulated area includes all waters of Lake Champlain in the vicinity of Button Bay State Park within the following points (NAD 83):
| 44°12′25″ N, 073°22′32″ W.
| 44°12′00″ N, 073°21′42″ W.
| 44°12′19″ N, 073°21′25″ W.
| 44°13′16″ N, 073°21′36″ W.
Yarmouth Clam Festival Paddle Race | • Event Type: Rowing and Paddling Boat Race.
| • Sponsor: Maine Island Trail Association.
| • Date: July 19, 2014.
| • Time: 2:00 p.m. to 7:00 p.m.
| • Location: The regulated area includes all waters in the vicinity of the Royal River outlet and Lane's Island within the following points (NAD 83):
| 43°47′47″ N, 070°08′40″ W.
| 43°47′50″ N, 070°07′13″ W.
| 43°47′06″ N, 070°07′32″ W.
| 43°47′17″ N, 070°08′25″ W.

Table 2
[33 CFR 165.171]
JUNE
Rotary Waterfront Days Fireworks | • Event Type: Fireworks Display.
| • Sponsor: Gardiner Rotary.
| • Date: June 21, 2014.
| • Time: 8:30 p.m. to 9:30 p.m.
| • Location: In the vicinity of the Gardiner Waterfront, Gardiner, Maine in approximate position:
| 44°13′52″ N, 069°46′08″ W (NAD 83).
Windjammer Days Fireworks | • Event Type: Fireworks Display.
| • Sponsor: Boothbay Harbor Region Chamber of Commerce.
| • Date: June 25, 2014.
| • Time: 8:30 p.m. to 9:30 p.m.
| • Location: In the vicinity of McFarland Island, Boothbay Harbor, Maine in approximate position:
| 43°50′38″ N, 069°37′57″ W (NAD 83).
JULY
Burlington Independence Day Fireworks | • Event Type: Fireworks Display.
| • Sponsor: City of Burlington, Vermont.
| • Date: July 3, 2014.
| • Time: 9:00 p.m. to 11:00 p.m.
| • Location: From a barge in the vicinity of Burlington Harbor, Burlington, Vermont in approximate position:
| 44°28′31″ N, 073°13′31″ W (NAD 83).
Camden 3rd of July Fireworks | • Event Type: Fireworks Display.
| • Sponsor: Camden, Rockport, Lincolnville Chamber of Commerce.
| • Date: July 4, 2014.
| • Time: 8:00 p.m. to 10:00 p.m.
| • Location: In the vicinity of Camden Harbor, Maine in approximate position:
| 44°12′32″ N, 069°02′58″ W (NAD 83).
Bangor 4th of July Fireworks | • Event Type: Fireworks Display.
| • Sponsor: Bangor 4th of July Fireworks.
| • Date: July 4, 2014.
| • Time: 8:00 p.m. to 10:30 p.m.
| • Location: In the vicinity of the Bangor Waterfront, Bangor, Maine in approximate position:
| 44°47′27″ N, 068°46′31″ W (NAD 83).
Bar Harbor 4th of July Fireworks | • Event Type: Fireworks Display.
| • Sponsor: Bar Harbor Chamber of Commerce.
| • Date: July 4, 2014.
| • Time: 8:00 p.m. to 10:00 p.m.
| • Location: In the vicinity of Bar Harbor Town Pier, Bar Harbor, Maine in approximate position:
| 44°23′31″ N, 068°12′15″ W (NAD 83).
Boothbay Harbor 4th of July Fireworks | • Event Type: Fireworks Display.
| • Sponsor: Town of Boothbay Harbor.
| • Date: July 4, 2014.
| • Time: 9:00 p.m. to 9:30 p.m.
| • Location: In the vicinity of McFarland Island, Boothbay Harbor, Maine in approximate position:
| 43°50′38″ N, 069°37′57″ W (NAD 83).
Colchester 4th of July Fireworks | • Event Type: Fireworks Display.
| • Sponsor: Town of Colchester, Recreation Department.
| • Date: July 4, 2014.
| • Time: 8:00 p.m. to 10:00 p.m.
| • Location: In the vicinity of Bayside Beach and Mallets Bay in Colchester, Vermont in approximate position:
| 44°32′44″ N, 073°13′10″ W (NAD 83).
Eastport 4th of July Fireworks | • Event Type: Fireworks Display.
| • Sponsor: Eastport 4th of July Committee.
| • Date: July 4, 2014.
| • Time: 9:00 p.m. to 10:30 p.m.
| • Location: From the Waterfront Public Pier in Eastport, Maine in approximate position:
| 44°54′25″ N, 066°58′55″ W (NAD 83).
Ellis Short Sand Park Trustee Fireworks | • Event Type: Fireworks Display.
| • Sponsor: William Burnham.
| • Date: July 4, 2014.
| • Time: 9:30 p.m. to 10:30 p.m.
| • Location: In the vicinity of York Beach, Maine in approximate position:
| 43°10′27″ N, 070°36′26″ W (NAD 83).
Jonesport 4th of July Fireworks | • Event Type: Fireworks Display.
| • Sponsor: Jonesport 4th of July Committee.
| • Date: July 4, 2014.
| • Time: 8:00 p.m. to 10:30 p.m.
| • Location: In the vicinity of Beals Island, Jonesport, Maine in approximate position:
| 44°31′18″ N, 067°36′43″ W (NAD 83).
Portland Harbor 4th of July Fireworks | • Event Type: Fireworks Display.
| • Sponsor: Department of Parks and Recreation, Portland, Maine.
| • Date: July 4, 2014.
| • Rain date: July 5, 2014.
| • Time: 8:30 p.m. to 10:30 p.m.
| • Location: In the vicinity of East End Beach, Portland, Maine in approximate position:
| 43°40′16″ N, 070°14′44″ W (NAD 83).
Stonington 4th of July Fireworks | • Event Type: Fireworks Display.
| • Sponsor: Deer Isle—Stonington Chamber of Commerce.
| • Date: July 4, 2014.
| • Time: 8:00 p.m. to 10:30 p.m.
| • Location: In the vicinity of Two Bush Island, Stonington, Maine in approximate position:
| 44°08′57″ N, 068°39′54″ W (NAD 83).
Southwest Harbor 4th of July Fireworks | • Event Type: Fireworks Display.
| • Sponsor: Southwest Harbor-Tremont Chamber of Commerce.
| • Date: July 4, 2014.
| • Time: 9:00 p.m. to 10:30 p.m.
| • Location: Southwest Harbor, Maine in approximate position:
| 44°6′25″ N, 068°19′21″ W (NAD 83).
Prentice Hospitality Group Fireworks | • Event Type: Fireworks Display.
| • Sponsor: Prentice Hospitality Group.
| • Date: July 4, 2014.
| • Rain date: July 5, 2014.
| • Time: 8:00 p.m. to 10:30 p.m.
| • Location: Chebeague Island, Maine in approximate position:
| 43°45′12″ N, 070°06′27″ W (NAD 83).
Shelburne Triathlons | • Event Type: Swim Event.
| • Sponsor: Race Vermont.
| • Date: July 5, 2014.
| • Time: 7:00 a.m. to 11:00 a.m.
| • Location: The regulated area includes all waters of Lake Champlain in the vicinity of Shelburne Beach in Shelburne, Vermont within a 400 yard radius of the following point:
| 44°21′45″ N, 075°15′58″ W (NAD 83).
Lubec Bicentennial Fireworks | • Event Type: Fireworks Display.
| • Sponsor: Town of Lubec, Maine.
| • Date: July 5, 2014.
| • Time: 9:00 p.m. to 10:30 p.m.
| • Location: In the vicinity of the Lubec Public Boat Launch in approximate position:
| 44°51′52″ N, 066°59′06″ W (NAD 83).
Vinalhaven 4th of July Fireworks | • Event Type: Fireworks Display.
| • Sponsor: Vinalhaven 4th of July Committee.
| • Date: July 6, 2014.
| • Time: 9:00 p.m. to 10:30 p.m.
| • Location: In the vicinity of Grime's Park, Vinalhaven, Maine in approximate position:
| 44°02′34″ N, 068°50′26″ W (NAD 83).
Main Street Heritage Days 4th of July Fireworks | • Event Type: Fireworks Display.
| • Sponsor: Main Street Inc.
| • Date: July 6, 2014.
| • Time: 8:00 p.m. to 10:30 p.m.
| • Location: In the vicinity of Reed and Reed Boat Yard, Woolwich, Maine in approximate position:
| 43°54′56″ N, 069°48′16″ W (NAD 83).
St. Albans Day Fireworks | • Event Type: Fireworks Display.
| • Sponsor: St. Albans Area Chamber of Commerce.
| • Date: July 6, 2014.
| • Time: 9:00 p.m. to 10:00 p.m.
| • Location: From the St. Albans Bay dock in St. Albans Bay, Vermont in approximate position:
| 44°48′25″ N, 073°08′23″ W (NAD 83).
Peaks to Portland Swim | • Event Type: Swim Event.
| • Sponsor: Cumberland County YMCA.
| • Date: July 12, 2014.
| • Time: 8:30 a.m. to 12:00 p.m.
| • Location: The regulated area includes all waters of Portland Harbor between Peaks Island and East End Beach in Portland, Maine within the following points (NAD 83).
| 43°39′20″ N, 070°11′58″ W.
| 43°39′45″ N, 070°13′19″ W.
| 43°40′11″ N, 070°14′13″ W.
| 43°40′08″ N, 070°14′29″ W.
| 43°40′00″ N, 070°14′23″ W.
| 43°39′34″ N, 070°13′31″ W.
| 43°39′13″ N, 070°11′59″ W.
St. George Days Fireworks | • Event Type: Fireworks.
| • Sponsor: Town of St. George.
| • Date: July 19, 2014.
| • Time: 8:30 p.m. to 10:30 p.m.
| • Location: The regulated area includes all waters of Inner Tenants Harbor, ME, in approximate position (NAD 83):
| 43°57′41.37″ N, 069°12′45″ W.
Richmond Days Fireworks | • Event Type: Fireworks Display.
| • Sponsor: Town of Richmond, Maine.
| • Date: July 26, 2014.
| • Time: 8:00 p.m. to 10:30 p.m.
| • Location: From a barge in the vicinity of the inner harbor, Tenants Harbor, Maine in approximate position:
| 44°08′42″ N, 068°27′06″ W (NAD83).
Colchester Triathlon | • Event Type: Swim Event.
| • Sponsor: Colchester Parks and Recreation Department.
| • Date: July 27, 2014.
| • Time: 8:00 a.m. to 11:00 a.m.
| • Location: The regulated area includes all waters of Malletts Bay on Lake Champlain, Vermont within the following points (NAD 83):
| 44°32′18″ N, 073°12′35″ W.
| 44°32′28″ N, 073°12′56″ W.
| 44°32′57″ N, 073°12′38″ W.
Tri for a Cure Swim Clinics and Triathlon | • Event Type: Swim Event.
| • Sponsor: Maine Cancer Foundation.
| • Dates & Times:
| July 7, 2014 6:00 p.m. to 7:30 p.m.
| July 12, 2014 12:00 p.m. to 1:30 p.m.
| July 19, 2014 3:30 p.m. to 5:00 p.m.
| July 20, 2014 7:00 a.m. to 10:30 a.m.
| • Location: The regulated area includes all waters of Portland Harbor, Maine in the vicinity of Spring Point Light within the following points (NAD 83):
| 43°39′01″ N, 070°13′32″ W.
| 43°39′07″ N, 070°13′29″ W.
| 43°39′06″ N, 070°13′41″ W.
| 43°39′01″ N, 070°13′36″ W.
Friendship Days Fireworks | • Event Type: Fireworks Display.
| • Sponsor: Town of Friendship.
| • Date: July 28, 2014.
| • Time: 8:00 p.m. to 10:30 p.m.
| • Location: In the vicinity of the Town Pier, Friendship Harbor, Maine in approximate position:
| 43°58′23″ N, 069°20′12″ W (NAD83).
Bucksport Festival and Fireworks | • Event Type: Fireworks Display.
| • Sponsor: Bucksport Bay Area Chamber of Commerce.
| • Date: July 26, 2014.
| • Time: 8:00 pm to 10:30 pm Location: In the vicinity of the Verona Island Boat Ramp, Verona, Maine in approximate position:
| 44°34′9″ N, 068°47′28″ W (NAD83).

For events where the date is different from the dates previously published for that event, new Temporary Rules may be issued to enforce limited access areas for the marine event. The Coast Guard may patrol each event area under the direction of a designated Coast Guard Patrol Commander (PATCOM). The PATCOM may be contacted on Channel 16 VHF-FM (156.8 MHz) by the call sign “PATCOM.” Official patrol vessels may consist of any Coast Guard, Coast Guard Auxiliary, state, or local law enforcement vessels assigned or approved by the COTP, Sector Northern New England. For information about regulations and restrictions for waterway use during the effective periods of these events, please refer to 33 CFR 100.120 and 33 CFR 165.171.

This notice is issued under authority of 33 CFR 100.120, 33 CFR 165.171, and 5 U.S.C. 552(a). In addition to this notice in the Federal Register, the Coast Guard will provide the maritime community with advance notification of this enforcement period via the Local Notice to Mariners and marine information broadcasts. If the COTP determines that the regulated area need not be enforced for the full duration stated in this notice, he or she may use a Broadcast Notice to Mariners to grant general permission to enter the regulated area.

Dated: May 1, 2014.
B.S. Gilda,
Captain, U.S. Coast Guard, Captain of the Port Sector Northern New England.

[FR Doc. 2014-11561 Filed 5-19-14; 8:45 am]

BILLING CODE 9110-04-P